DEPARTMENT OF TRANSPORTATION

Federal Aviation Administration

Performance-Based Operations Aviation Rulemaking Committee

AGENCY: Federal Aviation Administration, DOT.

ACTION: Notice of public meeting.

SUMMARY: This document announces a public meeting in which the Federal Aviation Administration (FAA) and members of the Performance-Based Operations Aviation Rulemaking Committee (PARC) will discuss the activities of the PARC since the Federal Aviation Administrator chartered the group in February 2004.

DATES: The public meeting will be held February 23-24, 2005, in Phoenix, AZ, and will begin at 9 a.m. each day. Registration will begin at 8:30 a.m. each day.

ADDRESSES: The public meeting will be held at Honeywell International Inc., 21111 N. 19th Ave., Phoenix, AZ.

You can find an electronic copy of informational materials for the meeting, including a detailed agenda, on the PARC knowledge sharing network at http://ksn.faa.gov/km/avr/parc/parc/default.aspx beginning February 15, 2005. For access to the network, contact Olga Legoshina, Flight Technologies and Procedures Division, as listed in the section titled FOR FURTHER INFORMATION CONTACT.

FOR FURTHER INFORMATION CONTACT: You should direct questions regarding the logistics of the meeting to Olga Legoshina, Flight Technologies and Procedures Division, AFS-400, Federal Aviation Administration, 470 L'Enfant Plaza, Suite 4102, Washington, DC 20024; telephone (202) 385-4606; facsimile (202) 385-4653. You should direct questions regarding the PARC to Dave Nakamura, Boeing Air Traffic Management, CNS Technical Standards and Requirements, PO Box 3707 MS 07-25, Seattle, WA 98124; telephone (425) 829-7006; facsimile (425) 294-1076, e-mail: dave.nakamura@boeing.com.

SUPPLEMENTARY INFORMATION: The public meeting will be held at Honeywell International Inc., 21111 N. 19th Ave., Phoenix, AZ.

The purpose of the meeting is for the FAA and PARC members to discuss the activities of the PARC since the FAA Administrator chartered the group in February 2004. The general discussion items include: (1) The PARC Mission and its role; and (2) where the PARC is and where it is going. Specific topics will include the FAA's Roadmap for Performance-based Navigation; Special Aircraft and Aircrew Authorization Required (SAAR) procedures; General Required Navigation Performance (RNP) procedure criteria; Area Navigation (RNAV) approach criteria; Performance-Based Communications; and Human Factors.

Attendance at the Public Meeting

The FAA should receive requests from people who wish to attend the public meeting no later than February 17, 2005. You should submit such requests to Olga Legoshina, Flight Technologies and Procedures Division, as listed in the previous section titled FOR FURTHER INFORMATION CONTACT.

Background

The FAA has committed to implementing performance-based airspace operations. Given this commitment, there are significant issues with industry dynamics; new technologies; new aircraft types/capabilities and configurations and current operations; airspace use; airports; infrastructure; economics; and the environment. These complex issues mandate a comprehensive review and possible revision of existing regulatory criteria and guidance materials. Where existing criteria and guidance is inadequate or nonexistent, there will be the requirement to develop and implement new regulatory criteria and the guidance material needed by all stakeholders. The PARC provides a forum for the U.S. aviation community to discuss, prioritize, and resolve issues, provide direction for U.S. flight operations criteria, and produce U.S. consensus positions for global harmonization. The FAA Administrator issued the PARC charter on February 19, 2004. The PARC charter expires February 19, 2006, unless sooner terminated or extended by the Administrator.

Public Meeting Procedures

Persons who plan to attend the meeting should be aware of the following procedures set up for this meeting:

1. There will be no admission fee or other charge to attend or to participate in the public meeting. The meeting will be open to all people who have asked in advance to attend the meeting or who register on the day of the meeting (between 8:30 a.m. and 9:00 a.m.), subject to availability of space in the meeting room.

2. Representatives from the FAA and PARC members will conduct the public meeting.

3. Sign and oral interpretation can be made available at the meeting, as well as an assistive listening device, if requested 10 calendar days before the meeting.

Issued in Washington, DC, on January 24, 2005.
James J. Ballough,
Director, Flight Standards Service.

[FR Doc. 05-1757 Filed 1-31-05; 8:45 am]

BILLING CODE 4910-13-P